DEPARTMENT OF AGRICULTURE

Farm Service Agency

Information Collection: Measurement Service Requests

AGENCY: Farm Service Agency, USDA.

ACTION: Notice of re-opening of a public comment period.

SUMMARY: The Farm Service Agency (FSA) is reopening and extending the comment period for 30 days to allow any interested individuals and organizations to provide their comments on the amended estimated total annual burden for the new information collection associated with the Measurement Service Requests. The amended estimate adds the respondent's travel time for the information collection associated with the Measurement Service Requests, which was inadvertently left out of the previous burden estimate. FSA published the original notice and request for comments in the Federal Register on Friday, May 11, 2007 (72 FR 26774). FSA will accept all public comments received from May 11 to the closing date identified in this notice.

DATES: Comments on this notice must be received by December 3, 2007.

ADDRESSES: We invite you to submit comments on this notice. In your comment, include the volume, date, and page number of this issue of the Federal Register. You may submit comments by any of the following methods:

E-Mail: Send comments to: Maryann.ball@wdc.usda.gov.

Fax: (202) 720-5233.

Mail: Farm Service Agency, USDA, Attn: Mary Ann Ball, Regulatory Review Group, USDA, FSA, STOP 0572, 1400 Independence Avenue, SW., Washington, DC, 20250-0572.

Comments also should be sent to the Desk Officer for Agriculture, Office of Information and Regulatory Affairs, Office of Management and Budget, Washington, DC 20503.

FOR FURTHER INFORMATION CONTACT: Mary Ann Ball, Regulatory Review Group, (202) 720-4283.

SUPPLEMENTARY INFORMATION: The information collection is described in the notice published on May 11, 2007 (72 FR 26774). (See that notice for information in the following categories: OMB control number, type of request, and abstract.) The following information is provided to amend the estimated total annual burden and to include travel time in the estimated total annual burden and to correct the calculation of the estimated total annual burden on respondents.

Title: Management Service Requests (FSA-409).

Estimate of Annual Burden: Public reporting burden for this collection of information is estimated to average .25 hours (15 minutes) per response. The average travel time, which is included in the total annual burden, is estimated to be 1 hour per respondent.

Respondents: Producers.

Estimated Number of Respondents: 135,000.

Estimated Annual Number of Respondents: 135,000.

Estimated Number of Responses per Respondent: 1.

Estimated Total Annual Burden on Respondents: 168,750.

Comments are invited on:

(1) Whether this collection information is necessary for the proper performance of the functions of the agency, including whether the information will have practical utility;

(2) The accuracy of the agency's estimate of burden, including the validity of the methodology and assumptions used;

(3) Ways to enhance the quality, utility, and clarity of the information to be collected; and

(4) Ways to minimize the burden of the collection of the information on those who are to respond, including the use of appropriate automated, electronic, mechanical, or other technological collection techniques or other forms of information technology.

All comments received in response to this notice, including names and addresses when provided, will be a matter of public records. Comments will be summarized and included in the submission for Office of Management and Budget approval.

Signed at Washington, DC, on October 26, 2007.
John A. Johnson,
Acting Administrator, Farm Service Agency.

[FR Doc. E7-21478 Filed 10-31-07; 8:45 am]

BILLING CODE 3410-05-P